DEPARTMENT OF JUSTICE

Antitrust Division

Notice Pursuant to the National Cooperative Research and Production Act of 1993— Southwest Research Institute: Cooperative Research Group on High Efficiency Durable Gasoline Engine

Correction

In notice document 06-5736 appearing on page 36830 in the issue of Wednesday, June 28, 2006, make the following correction:

In the first column, in the third full paragraph, four lines from the bottom, “Ivenco” should read “Iveco”.

[FR Doc. C6-5736 Filed 10-5-06; 8:45 am]

BILLING CODE 1505-01-D